DEPARTMENT OF TRANSPORTATION

Maritime Administration

[USCG-2003-14294]

Gulf Gateway Deepwater Port Decommissioning and License Termination

AGENCY: Maritime Administration, DOT.

ACTION: Public Notice; Final Agency Approval of the Gulf Gateway Deepwater Port Decommissioning and License Termination.

SUMMARY: The Maritime Administration (MARAD) announces its final clearance and authorization of the decommissioning of the Gulf Gateway Deepwater Port and termination of the Gulf Gateway Deepwater Port License (License), effective as of June 28, 2013. Pursuant to Section 1503(h) of the Deepwater Port Act of 1974, as amended, a License may remain in effect until such time as it is either suspended or revoked by the Secretary of Transportation or surrendered by the licensee. For purposes of this agency action, MARAD has granted as of June 28, 2013, final clearance of the completed decommissioning of the Gulf Gateway Deepwater Port facility, and approved termination of the official License and all other conditions and obligations set forth by the License.

DATES: The date of termination of the License and all actions related to this action is effective as of June 28, 2013.

ADDRESSES: The Docket Management Facility maintains the public docket for this project. The docket may be viewed electronically at http://www.regulations.gov under docket number USCG-2003-14294, or in person at the U.S. Department of Transportation, Docket Operations, M-30, West Building Ground Floor, Room W12-140, 1200 New Jersey Avenue SE., Washington, DC 20590.

FOR FURTHER INFORMATION CONTACT: If you have questions about the Gulf Gateway Deepwater Port project, contact Ms. Tracey Ford, Acting Office Director, Office of Deepwater Ports and Offshore Activities at (202) 366-0321 or Tracey.Ford@dot.gov.

SUPPLEMENTARY INFORMATION: By letter dated February 21, 2011, Excelerate Energy LP (Excelerate) notified MARAD and the U.S. Coast Guard (USCG) of its intention to decommission the Gulf Gateway Deepwater Port, located 116 miles off the coast of Louisiana. Excelerate's decision to decommission the Gulf Gateway Deepwater Port was due primarily to declining pipeline capacity issues, significant operational challenges, and changes in the global natural gas market. In accordance with Article 20 of the License, Excelerate is required to decommission its deepwater port in compliance with the decommissioning plans approved by the Maritime Administrator and in accordance with applicable Federal regulations and guidelines in place at the time of decommissioning. The License further requires that MARAD approval be granted in concurrence with other relevant Federal agencies. This requirement was satisfied on April 14, 2012, and Excelerate was granted authorization by MARAD to proceed with its planned decommissioning activities. Excelerate completed the final decommissioning process on March 14, 2013. At the end of the decommissioning process, all components of the Gulf Gateway facility were removed and the connecting pipelines were decommissioned in-place, in accordance with applicable Federal regulations.

As of the date of this notice, MARAD concurred that all decommissioning activities for the Gulf Gateway Deepwater Port have been completed, and approved termination of the official License and other related License obligations.

This Federal Register Notice completes the final close-out and termination procedures for the Gulf Gateway Deepwater Port and License. No further action will be undertaken by MARAD.

Additional information pertaining to the Gulf Gateway Deepwater Port project may be found in the public docket at www.regulations.gov under docket number USCG-2003-14294.

Authority: 49 CFR 1.66

By order of the Maritime Administrator
Dated: August 8, 2013.
Julie P. Agarwal,
Secretary, Maritime Administration.

[FR Doc. 2013-19687 Filed 8-13-13; 8:45 am]

BILLING CODE 4910-81-P